DEPARTMENT OF LABOR

Office of the Secretary

Agency Information Collection Activities; Submission for OMB Review; Comment Request; Family and Medical Leave Act Employer and Employee Surveys, 2011

ACTION: Notice.

SUMMARY: The Department of Labor (DOL) is submitting the proposed Wage and Hour Division (WHD) sponsored information collection request (ICR) titled, “Family and Medical Leave Act Employer and Employee Surveys, 2011,” to the Office of Management and Budget (OMB) for review and approval for use in accordance with the Paperwork Reduction Act (PRA) of 1995 (44 U.S.C. 3501 et seq.).

DATES: Submit comments on or before September 26, 2011.

ADDRESSES: A copy of this ICR with applicable supporting documentation; including a description of the likely respondents, proposed frequency of response, and estimated total burden may be obtained from the RegInfo.gov Web site, http://www.reginfo.gov/public/do/PRAMain, on the day following publication of this notice or by contacting Michel Smyth by telephone at 202-693-4129 (this is not a toll-free number) or sending an e-mail to DOL_PRA_PUBLIC@dol.gov.

Submit comments about this request to the Office of Information and Regulatory Affairs, Attn: OMB Desk Officer for the Department of Labor, Wage and Hour Division (WHD), Office of Management and Budget, Room 10235, Washington, DC 20503, Telephone: 202-395-6929/Fax: 202-395-6881 (these are not toll-free numbers), e-mail: OIRA_submission@omb.eop.gov.

FOR FURTHER INFORMATION CONTACT: Michel Smyth by telephone at 202-693-4129 (this is not a toll-free number) or by e-mail at DOL_PRA_PUBLIC@dol.gov.

SUPPLEMENTARY INFORMATION: The Wage and Hour Division (WHD) administers the Family and Medical Leave Act (FMLA), 29 U.S.C. 2601 et seq., 29 CFR part 825. In 1996 and 2000, the Federal government funded the collection of nationally representative data on the FMLA from employers and employees. Given changes in economic conditions and the FMLA since the last employer and employee surveys, the WHD proposes to conduct an employer survey and an employee survey to obtain current representative data for FMLA leave usage in light of 18 years of administering the law and in light of changes to FMLA leave brought on by amendments to the FMLA. The survey data will provide an update to DOL's understanding of leave-taking behavior and employer/employee experiences with the FMLA.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid OMB Control Number. See 5 CFR 1320.5(a) and 1320.6. This request for a new OMB Control Number is being submitted under ICR Reference Number 201105-1235-001. For additional information, see the related notice published in the Federal Register on April 1, 2011 (76 FR 18254).

Interested parties are encouraged to send comments to the OMB, Office of Information and Regulatory Affairs at the address shown in the ADDRESSES section within 30 days of publication of this notice in the Federal Register. In order to help ensure appropriate consideration, comments should identify ICR reference number 201105-1235-001. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Wage and Hour Division.

Title of Collection: Family and Medical Leave Act Employer and Employee Surveys, 2011.

OMB ICR Reference Number: 201105-1235-001.

Affected Public: Individuals or Households; Private Sector—Businesses, Farms, and Not-for-profit entities.

Total Estimated Number of Respondents: 21,072.

Total Estimated Number of Responses: 21,072.

Total Estimated Annual Burden Hours: 138,472.

Total Estimated Annual Other Costs Burden: $0.

Dated: August 19, 2011.
Michel Smyth,
Departmental Clearance Officer.

[FR Doc. 2011-21849 Filed 8-25-11; 8:45 am]

BILLING CODE 4510-27-P